CONSUMER PRODUCT SAFETY COMMISSION

Sunshine Act Meeting Notice

DATES: Time And Date: Wednesday, October 19, 2011; 2 p.m.—3 p.m.

PLACE: Hearing Room 420, Bethesda Towers, 4330 East West Highway, Bethesda, Maryland.

STATUS: Closed to the Public.

Matter To Be Considered

Compliance Status Report

The Commission staff will brief the Commission on the status of compliance matters.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: October 11, 2011.
Todd A Stevenson,
Secretariat.

[FR Doc. 2011-26607 Filed 10-11-11; 4:15 pm]

BILLING CODE 6355-01-P